NUCLEAR REGULATORY COMMISSION

[Docket No. 40-8027]

Notice of Consideration of Amendment Request for Sequoyah Fuels Corp., Gore, Oklahoma and Opportunity for a Hearing

The U.S. Nuclear Regulatory Commission (NRC) is considering issuance of a license amendment (LA) to materials license SUB-1010 issued to Sequoyah Fuels Corp. (SFC), to remove license conditions controlling flammable substances near the uranium hexafluoride (UF6) cylinders at its site near Gore, Oklahoma, per SFC request dated November 19, 1999.

On November 21, 1994, SFC requested a license amendment to remove the requirements for an emergency plan (EP) because the facility was no longer operating. License conditions to preclude a uranium uptake by members of the public from postulated fire involving UF6 cylinders were added to the license. LA number 20 was approved on February 1, 1995.

In 1998, SFC commenced activities to wash all remaining cylinders. SFC has completed cylinder washing, thereby removing the residual UF6, so the postulated fire-related event could not result in a uranium uptake by a member of the public. Therefore, SFC wishes to remove the license conditions. An NRC administrative review, documented in a letter to SFC dated December 22, 1999, found the request for a LA acceptable to begin a technical review.

If the NRC approves the LA, the approval will be documented in a LA to NRC's license SUB-1010. However, before approving the proposed LA, NRC will need to make the findings required by the Atomic Energy Act of 1954, as amended, and NRC's regulations. These findings will be documented in a Safety Evaluation Report and an Environmental Assessment.

NRC hereby provides notice that this is a proceeding on an application for an amendment of a license falling within the scope of Subpart L, “Informal Hearing Procedures for Adjudication in Materials Licensing Proceedings,” of NRC's rules of practice for domestic licensing proceedings in 10 CFR Part 2. Pursuant to § 2.1205(a), any person whose interest may be affected by this proceeding may file a request for a hearing in accordance with § 2.1205(d). A request for a hearing must be filed within thirty (30) days of the date of publication of this Federal Register notice.

The request for a hearing must be filed with the Office of the Secretary either:

1. By delivery to: Secretary, U.S. Nuclear Regulatory Commission, One White Flint North, 11555 Rockville Pike, Rockville, MD 20852-2738; between 7:45 am and 4:15 pm Federal workdays; or

2. By mail, telegram, or facsimile addressed to: Secretary, U.S. Nuclear Regulatory Commission, Washington, DC 20555-0001. Attention: Rulemakings and Adjudications Staff.

In accordance with 10 CFR § 2.1205(f), each request for a hearing must also be served, by delivering it personally or by mail, to:

1. The applicant, Sequoyah Fuels Corporation, PO Box 610, Gore, Oklahoma, Attention: Mr. John Ellis, and;

2. The NRC staff, by delivery to the Executive Director for Operations, U.S. Nuclear Regulatory Commission, One White Flint North, 11555 Rockville Pike, Rockville, MD 20852-2738, between 7:45 am and 4:15 pm Federal workdays, or by mail, addressed to the Executive Director for Operations, U.S. Nuclear Regulatory Commission, Washington, DC 20555-0001.

In addition to meeting other applicable requirements of 10 CFR Part 2 of NRC's regulations, a request for a hearing filed by a person other than an applicant must describe in detail:

1. The interest of the requester in the proceeding;

2. How that interest may be affected by the results of the proceeding, including the reasons why the requester should be permitted a hearing, with particular reference to the factors set out in § 2.1205(h):

3. The requester's areas of concern about the licensing activity that is the subject matter of the proceeding; and

4. The circumstance establishing that the request for a hearing is timely in accordance with § 2.1205(d).

FOR FURTHER INFORMATION: The application for the LA and supporting documentation are available for inspection on NRC's Public Electronic Reading Room at http://www.nrc.gov/ NRC/ADAMS/index.html. Questions with respect to this action should be referred to Mr. James Shepherd, Decommissioning Branch, Division of Waste Management, Office of Nuclear Material Safety and Safeguards, U.S. Nuclear Regulatory Commission, Washington, DC 20555-0001. Telephone: (301) 415-6712. Fax: (301) 415-5398.

Dated at Rockville, Maryland, this 18th day of January 2000.
For the Nuclear Regulatory Commission.
Larry W. Camper,
Chief, Decommissioning Branch, Division of Waste Management, Office of Nuclear Material Safety and Safeguards.

[FR Doc. 00-1731 Filed 1-24-00; 8:45 am]

BILLING CODE 7590-01-P